DEPARTMENT OF EDUCATION

[Docket No.: ED-2023-SCC-0079]

Agency Information Collection Activities; Comment Request; Application and Employment Certification for Public Service Loan Forgiveness

AGENCY: Federal Student Aid (FSA), Department of Education (ED).

ACTION: Notice.

SUMMARY: In accordance with the Paperwork Reduction Act of 1995, ED is requesting the Office of Management and Budget (OMB) to conduct an emergency review of a new information collection.

DATES: The Department requested emergency processing from OMB for this information collection request on May 3, 2023. As a result, the Department is providing the public with the opportunity to comment under the full comment period. Interested persons are invited to submit comments on or before July 11, 2023.

ADDRESSES: To access and review all the documents related to the information collection listed in this notice, please use http://www.regulations.gov by searching the Docket ID number ED-2023-SCC-0079. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Beth Grebeldinger, (202) 377-4018.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application and Employment Certification for Public Service Loan Forgiveness.

OMB Control Number: 1845-0110.

Type of Review: Revision.

Respondents/Affected Public: Individuals or households.

Total Estimated Number of Annual Responses: 913,713.

Total Estimated Number of Annual Burden Hours: 456,857.

Abstract: The Department of Education (Department) is requesting an emergency clearance for this renewal of the revision of the information collection, 1845-0110. Additionally, we are requesting that the full clearance package be filed at the same time and that the Department will initiate the 60-day public comment period upon notification of emergency approval. The PSLF program was revised during the Negotiated Rulemaking process in 2021 resulting in Final Rule for the Public Service Loan Forgiveness (PSLF) Program that were published in the Federal Register on November 1, 2022 (87 FR 65904) and continue to be codified in 34 CFR 685.219. Concurrent with these new regulations, the Department implemented the ability for the borrower and employer to digitally sign and submit the PSLF Form electronically through our Digital Platform. The PSLF form was redesigned to encourage the use of the new signature options and align the instructions on the form to mimic the user experience connected to the online submission. This new form will not be available until the regulations become effective on July 1, 2023.

Dated: May 9, 2023.
Kun Mullan,
PRA Coordinator, Strategic Collections and Clearance, Governance and Strategy Division, Office of Chief Data Officer, Office of Planning, Evaluation and Policy Development.

[FR Doc. 2023-10191 Filed 5-11-23; 8:45 am]

BILLING CODE 4000-01-P